NATIONAL SCIENCE FOUNDATION

Sunshine Act Meetings

The National Science Board hereby gives notice of the scheduling of a teleconference of the National Science Board/National Science Foundation Commission on Merit Review (MRX) for the transaction of National Science Board business pursuant to the NSF Act and the Government in the Sunshine Act.

TIME AND DATE: The MRX meeting is scheduled for Monday, October 21, 2024, from 4 p.m.-6 p.m. EDT. The open portion will be from 4-4:30 p.m.; the closed portion will be from 4:30-6 p.m.

PLACE: This meeting will be via videoconference through the National Science Foundation, 2415 Eisenhower Avenue, Alexandria, VA 22314.

STATUS: One portion open, and one portion closed.

MATTERS TO BE CONSIDERED: The MRX will consider different matters in the open and closed portions of the meeting, as noted below.

PORTIONS OPEN TO THE PUBLIC: The open agenda is: Commission Chair's remarks; Review of Commission Activity and Outline of Certain Preliminary Suggestions.

PORTIONS CLOSED TO THE PUBLIC: The closed agenda is: Commission Chair's remarks regarding the agenda; Remarks from Kei Koizumi, White House Office of Science and Technology Policy, Principal Deputy Director for Science, Society, and Policy; Discussion of Preliminary Suggestions; and Closing Remarks.

CONTACT PERSON FOR MORE INFORMATION: Point of contact for this meeting is: Chris Blair, cblair@nsf.gov, 703/292-7000. Meeting information and updates may be found at www.nsf.gov/nsb.

Ann Bushmiller,
Senior Counsel to the National Science Board.

[FR Doc. 2024-24230 Filed 10-16-24; 4:15 pm]

BILLING CODE 7555-01-P